DEPARTMENT OF HOMELAND SECURITY

Coast Guard

33 CFR Part 165

[Docket No. USCG 2011-1047]

Safety Zone; Sacramento New Years Eve Fireworks Display, Sacramento, CA

AGENCY: Coast Guard, DHS.

ACTION: Notice of enforcement of regulation.

SUMMARY: The Coast Guard will enforce the 1,000 foot safety zones during the Sacramento New Years Eve Fireworks Display in the navigable waters of the Sacramento River during the dates and times noted below. This action is necessary to control vessel traffic and to ensure the safety of event participants and spectators. During the enforcement period, unauthorized persons or vessels are prohibited from entering into, transiting through, or anchoring in the safety zone, unless authorized by the Patrol Commander (PATCOM).

DATES: The regulations in 33 CFR 165.1191 will be enforced from 9 p.m. to 9:15 p.m. on December 31, 2011 and from 11:59 p.m. on December 31, 2011 to 12:15 a.m. on January 1, 2012.

FOR FURTHER INFORMATION CONTACT: If you have questions on this notice, call or email Ensign William Hawn, U.S. Coast Guard, Waterways Safety Division; telephone (415) 399-7442, email D11-PF-MarineEvents@uscg.mil.

SUPPLEMENTARY INFORMATION: The Coast Guard will enforce the Sacramento New Years Eve Fireworks Display safety zones in the navigable waters of the Sacramento River near positions 38°34′48.26″ N, 121°30′38.52″ W (NAD 83) and 38°34′49.84″ N, 121°30′29.59″ W (NAD 83). Upon the commencement of the first fireworks display, scheduled to take place from 9 p.m. to 9:15 p.m. on December 31, 2011, the safety zone applies to the navigable waters around the fireworks launch site near position 38°34′48.26″ N, 121°30′38.52″ W (NAD 83) within a radius of 1,000 feet. Upon the commencement of the second fireworks display, scheduled to take place at 11:59 p.m. on December 31, 2011 until 12:15 a.m. on January 1, 2012, the safety zone applies to the navigable waters around the fireworks launch sites near positions 38°34′48.26″ N, 121°30′38.52″ W (NAD 83) and 38°34′49.84″ N, 121°30′29.59″ W (NAD 83) within a radius of 1,000 feet.

Under the provisions of 33 CFR 165.1191, unauthorized persons or vessels are prohibited from entering into, transiting through, or anchoring in the safety zone during all applicable effective dates and times, unless authorized to do so by the PATCOM. Additionally, each person who receives notice of a lawful order or direction issued by an official patrol vessel shall obey the order of direction. The PATCOM is empowered to forbid entry into and control the regulated area. The PATCOM shall be designated by the Commander, Coast Guard Sector San Francisco. The PATCOM may, upon request, allow the transit of commercial vessels through regulated areas when it is safe to do so.

This notice is issued under authority of 33 CFR 165.1191 and 5 U.S.C. 552(a). In addition to this notice in the Federal Register, the Coast Guard will provide the maritime community with extensive advance notification of this enforcement period via the Local Notice to Mariners. If the Captain of the Port determines that the regulated area need not be enforced for the full duration stated in this notice, he or she may use a Broadcast Notice to Mariners to grant general permission to enter the regulated area.

Dated: December 8, 2011.
Cynthia L. Stowe,
Captain, U.S. Coast Guard, Captain of the Port San Francisco.

[FR Doc. 2011-33372 Filed 12-28-11; 8:45 am]

BILLING CODE 9110-04-P